DEPARTMENT OF TRANSPORTATION

Federal Aviation Administration

Notice of Passenger Facility Charge (PFC) Approvals and Disapprovals

AGENCY: Federal Aviation Administration (FAA), DOT.

ACTION: Monthly notice of PFC approvals and disapprovals. In October 2004, there were four applications approved. This notice also includes information on three applications, approved in September 2004, inadvertently left off the September 2004 notice. Additionally, 27 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and part 158 of the Federal Aviation Regulations (14 CFR part 158). This notice is published pursuant to paragraph d of § 158.29.

PFC Applications Approved

Public Agency: Wayne County Airport Authority, Romulus, Michigan.

Application Number: 04-05-C-00-DTW.

Application Type: Impose and use a PFC.

PFC Level: $4.50.

Total PFC Revenue Approved in this Decision: $440,790,156.

Earliest Charge Effective Date: September 1, 2029.

Estimated Charge Expiration Date: October 1, 2032.

Class of Air Carriers not Required to Collect PFC's: All air carriers or foreign air carriers which enplane fewer than 500 passengers each per year.

Determination: Approved. Based on information contained in the public agency's application, the FAA has determined that the approved class accounts for less than 1 percent of the total annual enplanements at Detroit Metropolitan Wayne County Airport.

Brief Description of Projects Approved for Collection and Use at a $4.50 PFC Level:

North terminal apron.

McNamara Terminal phase II program.

Third aircraft rescue and firefighting facility.

West airfield improvements.

Interconnect re-route.

Taxiway Q construction.

Runway 4R/22L shoulders/overburden.

Deicing pad at runway 22L.

Deicing pads at runways 4R and 3L.

Perimeter fencing and other security enhancements.

Surface movement guidance control system.

Runway 3L/21R planning.

Brief Description of Project Approved for Collection and Use at a $3.00 PFC Level: Runway 3R/21L design and pavement evaluation.

Brief Description of Project Partially Approved for Collection and Use at a $3.00 PFC Level: Part 150 study update.

Determination: The approved amount is less than the amount requested due to the issuance of an Airport Improvement Program grant for this project after the FAA's receipt of the PFC application.

Brief Description of Withdrawn Project: Airfield safety vehicles and equipment.

Date of Withdrawal: September 20, 2004.

Decision Date: September 28, 2004.

For Further Information Contact: Jason Watt, Detroit Airports District Office, (734) 229-2906.

Public Agency: Broome County Department of Aviation, Binghamton, New York.

Application Number: 04-07-C-00-BGM.

Application Type: Impose and use a PFC.

PFC Level: $4.50.

Total PFC Revenue Approved in this Decision: $237,624.

Earliest Charge Effective Date: August 1, 2005.

Estimated Charge Expiration Date: February 1, 2006.

Class C-Air Carriers not required to collect PFC's: Non-scheduled/on-demand air carriers filing FAA Form 1800-31.

Determination: Approved. Based on information contained in the public agency's application, the FAA has determined that the approved class accounts for less than 1 percent of the total annual enplanements at Greater Binghamton Airport.

Brief Description of Projects Approved for Collection and Use:

Glycol collection system rehabilitation.

Runway 10/28 safety area study.

Airport wildlife hazard study.

Taxiway rehabilitation—design.

Brief Description of Project Approved for Collection: Airport entrance road improvements.

Brief Description of Project Approved for Use: Runway 16/34 refurbishment, design/construction.

Decision Date: September 29, 2004.

For Further Information Contact: Robert Levine, New York Airports District Office, (516) 227-3807.

Public Agency: Chemung County, Elmira, New York.

Application Number: 04-01-C-00-ELM.

Application Type: Impose and use a PFC.

PFC Level: $3.00.

Total PFC Revenue Approved in This Decision: $791.873

Earliest Charge Effective Date: December 1, 2004.

Estimated Charge Expiration Date: January 1, 2008.

Class of Air Carriers Not Required To Collect PFC's: Non-scheduled/on-demand air carriers filing FAA Form 1800-31.

Determination: Approved. Based on information contained in the public agency's application, the FAA has determined that the approved class accounts for less than 1 percent of the total annual enplanements at Elmira/Corning Regional Airport.

Brief Description of Projects Approved for Collection and Use:

Purchase airport sweeper.

Rehabilitate and mark taxiway A, rehabilitate and mark terminal apron.

Security vulnerability assessment.

Snow removal equipment building expansion.

Purchase and install passenger boarding bridge.

Hazard beacon (obstruction lights) study.

Rehabilitate and strengthen taxiways C, G, and H.

Construct itinerant aircraft apron.

Update/upgrade airport security access control system.

Environmental assessment for the extension of runway 6 end.

Install security fence at Schweizer property, T-hangar access area and maintenance area.

Airfield storm water drainage study, phase 1.

Acquire multi-purpose snow removal equipment.

Master plan update.

Acquire aircraft rescue and firefighting command/friction survey vehicle.

Brief Description of Projects Approved for Collection: Rehabilitate taxiway D; Runway end 6 extension, phase 1 (design).

Brief Description of Disapproved Project: Purchase multi-purpose snow removal equipment.

Determination: Disapproved. This project was not included in the airline consultation process.

Decision Date: September 30, 2004.

For Further Information Contact: Philip Brito, New York Airports District Office, (516) 227-3800.

Public Agency: City of Kansas City, Missouri.

Application Number: 04-04-C-00-MCI.

Application Type: Impose and use a PFC.

PFC Level: $3.00.

Total PFC Revenue Approved in This Decision: $4,066,500.

Earliest Charge Effective Date: October 1, 2017.

Estimated Charge Expiration Date: December 1, 2017.

Class of Air Carriers Not Required To Collect PFC's: Non-scheduled/on demand air carriers filing FAA Form 1800-31.

Determination: Approved. Based on information contained in the public agency's application, the FAA has determined that the approved class accounts for less than 1 percent of the total annual enplanements at Kansas City International Airport.

Brief Description of Project Approved for Collection and Use: Reconstruct runway 1/19.

Decision Date: October 8, 2004.

For Further Information Contact: Nicoletta S. Oliver, Central Region Airports Division, (816) 329-2642.

Public Agency: County of Milwaukee, Milwaukee, Wisconsin.

Application Number: 04-11-U-00-MKE.

Application Type: Use PFC revenue.

PFC Level: $3.00.

Total PFC Revenue To be Used in This Decision: $825,000.

Charge Effective Date: March 1, 2017.

Estimated Charge Expiration Date: September 1, 2017.

Class of Air Carriers Not Required To Collect PFC's: No change from previous decision.

Brief Description of Project Approved for Use: E concourse aircraft ramp.

Decision Date: October 8, 2004.

For Further Information Contact: Sandra E. DePottey, Minneapolis Airports District Office, (612) 713-4363.

Public Agency: Commonwealth Ports Authority, Saipan, Northern Mariana Islands.

Applications Number: 04-01-C-00-GSN; 04-01-C-00-GRO; and 04-01-C-00-TNI.

Application Type: Impose and use a PFC.

PFC Level: $4.50.

Total PFC Revenue Approved In This Decision: $33,442,548 ($29,920,680 at Francisco C. Ada/Saipan International Airport (GSN); $1,797,042 at Rota International Airport (GRO); and $1,724,826 at Tinian International Airport (TNI)).

Earliest Charge Effective Date at Each Airport: January 1, 2005.

Estimated Charge Expiration Date at Each Airport: August 1, 2016.

Classes of Air Carriers Not Required to Collect PFC's: None.

Brief Description of Projects Approved for Collection At GSN, GRO, and TNI and Use at GSN:

Electrical upgrade/generator.

Conversion of restaurant to holdroom.

Sewer line connection.

Enclosure and air conditioning of corridor.

Environmental assessment for hardstand and taxiways.

Connecting taxiway.

Storm drainage master plan.

Parallel taxiway.

Aircraft waste disposal.

Perimeter fencing.

New aircraft rescue and firefighting vehicle.

Environmental assessment for taxiways.

Flight information display.

Radio communications upgrade.

Runway 7/25 rehabilitation—phases I and II.

Aircraft rescue and firefighting training facility (burn pit).

Noise mitigation.

Airport security enhancements.

Aircraft rescue and firefighting training facility (classroom).

Terminal roof replacement.

Runway safety area improvements.

PFC implementation and administration.

Terminal modernization program, phase I.

Brief Description of Projects Approved for Collection at GSN, GRO, and TNI and Use at GRO:

Apron expansion.

Air conditioning arrival area.

Runway rehabilitation.

Airport visual guidance system.

Environmental assessment for runway 9/27 extension.

Brief Description of Project Approved for Collection at GSN, GRO, and TNI for Future Use at GRO: Design and construct runway 9/27 extension.

Brief Description of Projects Approved for Collection at GSN, GRO, and TNI and Use at TNI:

New runway improvement.

Aircraft rescue and firefighting vehicle.

Decision Date: October 15, 2004.

For Further Information Contact: Gordon K. Wong, Honolulu Airports District Office, (808) 541-3565.

Public Agency: Tri-State Airport Authority, Huntington, West Virginia.

Application Number: 04-05-C-00-HTS.

Application Type: Impose and use a PFC.

PFC Level: $3.00.

Total PFC Revenue Approved in this Decision: $436,233.

Earliest Charge Effective Date: December 1, 2007.

Estimated Charge Expiration Date: December 1, 2011.

Class of Air Carriers Not Required to Collect PFC's: Non-scheduled/on-demand air carriers filing FAA Form 1800-31.

Determination: Approved. Based on information contained in the public agency's application, the FAA has determined that the approved class accounts for less than 1 percent of the total annual enplanements at Tri-State Airport.

Brief Description of Projects Approved for Collection and Use:

Taxiway A rehabilitation.

Water system rehabilitation.

Acquire friction measuring equipment.

Aircraft rescue and firefighting building rehabilitation.

Airfield drainage rehabilitation.

PFC preparation.

Main terminal building renovations and loading bridge.

Relocate and replace rotating beacon.

Acquire snow removal equipment.

Air carrier apron rehabilitation.

Brief Description of Project Approved for Collection: General aviation apron rehabilitation.

Decision Date: October 18, 2004.

For Further Information Contact: Larry F. Clark, Beckley Airports District Office, (304) 252-6216.

Amendments to PFC Approvals

Amendment No. City, State | Amendment approved date | Original approved net PFC revenue | Amended approved net PFC revenue | Original estimated charge exp. date | Amended estimated charge exp. date
99-02-C-02-MCI; Kansas City, MO | 07/20/04 | $23,844,977 | $9,556,186 | 08/01/09 | 01/01/06
95-01-C-04-MCI; Kansas City, MO | 07/22/04 | 215,381,098 | 300,111,676 | 01/01/08 | 07/01/13
94-01-C-02-SBN; South Bend, IN | 09/14/04 | 8,889,854 | 8,887,430 | 12/01/02 | 09/01/01
02-05-C-01-FLL; Fort Lauderdale, FL | 09/22/04 | 26,533,770 | 29,460,819 | 03/01/11 | 02/01/12
92-01-C-03-GFK; Grand Forks, ND | 09/29/04 | 663,847 | 621,965 | 08/01/96 | 09/01/95
96-03-C-01-GFK; Grand Forks, ND | 09/29/04 | 86,463 | 58,141 | 08/01/96 | 12/01/95
97-04-C-02-GFK; Grand Forks, ND | 09/29/04 | 551,993 | 522,970 | 09/01/98 | 11/01/98
02-06-C-01-DLH; Duluth, MN | 10/07/04 | 901,280 | 721,079 | 07/01/05 | 11/01/04
96-02-C-01-MOT; Minot, ND | 10/19/04 | 287,477 | 186,282 | 08/01/00 | 03/01/98
98-03-C-02-MOT; Minot, ND | 10/19/04 | 227,141 | 231,153 | 02/01/04 | 12/01/99
99-04-C-02-MOT; Minot, ND | 10/19/04 | 757,551 | 759,503 | 02/01/04 | 04/01/03
*97-11-C-02-CHO; Charlottesville, VA | 10/19/04 | 205,900 | 205,900 | 12/01/04 | 02/01/07
*99-12-C-02-CHO; Charlottesville, VA | 10/19/04 | 181,069 | 181,069 | 10/01/04 | 02/01/07
99-13-U-02-CHO; Charlottesville, VA | 10/19/04 | NA | NA | 10/01/04 | 02/01/07
*01-14-C-02-CHO; Charlottesville, VA | 10/19/04 | 348,874 | 348,874 | 07/01/06 | 02/01/07
*3-15-C-01-CHO; Charlottesville, VA | 10/19/04 | 850,000 | 850,000 | 01/01/08 | 02/01/07
94-01-C-03-RIC; Richmond, VA | 10/22/04 | 17,153,645 | 11,846,867 | 06/01/01 | 05/01/98
97-02-C-01-RIC; Richmond, VA | 10/22/04 | 3,978,514 | 4,325,673 | 08/01/01 | 07/01/99
99-03-C-02-RIC; Richmond, VA | 10/22/04 | 106,296,040 | 111,407,401 | 07/01/15 | 07/01/15
03-05-C-01-RIC; Richmond, VA | 10/22/04 | 6,032,887 | 6,032,887 | 05/01/25 | 05/01/25
*99-03-C-03-RIC; Richmond, VA | 10/22/04 | 111,407,401 | 111,407,401 | 07/01/15 | 10/01/19
*01-04-C-03-RIC; Richmond, VA | 10/22/04 | 3,900,333 | 3,900,333 | 09/01/16 | 10/01/19
*03-05-C-02-RIC; Richmond, VA | 10/22/04 | 6,032,887 | 6,032,333 | 05/01/25 | 10/01/19
00-03-C-01-AVP; Wilkes-Barre, PA | 10/25/04 | 9,918,271 | 8,004,756 | 11/01/10 | 04/01/11
98-06-C-05-PHL; Philadelphia,PA | 10/25/04 | 23,060,410 | 23,560,410 | 03/01/08 | 03/01/08
01-09-C-01-PHL; Philadelphia, PA | 10/25/04 | 22,250,000 | 24,400,000 | 03/01/08 | 03/01/08
01-04-C-02-RIC; Richmond, VA | 10/29/04 | 3,900,333 | 3,401,433 | 10/01/19 | 11/01/16

Note: The amendments denoted by an asterisk (*) include a change to the PFC level charged from $3.00 per enplaned passenger to $4.50 per enplaned passenger. For Charlottesville, VA and Richmond, VA, this change is effective on January 1, 2005.

Issued in Washington, DC on December 13, 2004.
Joseph G. Washington,
Acting Manager, Financial Analysis and Passenger Facility Charge Branch.

[FR Doc. 04-27689 Filed 12-16-04; 8:45 am]

BILLING CODE 4910-13-M